DEPARTMENT OF LABOR

Employment and Training Administration

[TA-W-57,468]

Milwaukee Electric Tool Corporation Brookfield Plant Brookfield, WI; Notice of Affirmative Determination Regarding Application for Reconsideration

By application dated August 24, 2005, a State of Wisconsin agency representative requested administrative reconsideration of the Department of Labor's Notice of Negative Determination Regarding Eligibility to Apply for Worker Adjustment Assistance, applicable to workers of the subject firm. The determination was signed on July 18, 2005, and published in the Federal Register on August 26, 2005 (70 FR 50411).

The determination stated that electric power tool accessory production at the subject facility ceased in December 2004, that production shifted to other domestic locations, that the subject company imported during 2003 and 2004, and that subject company customers did not import during the relevant period.

The State agent requested reconsideration to clarify the basis for the negative determination.

Upon careful review of the request for reconsideration, the Department has determined that there is basis to conduct further investigation to determine whether the subject workers are eligible to apply for worker adjustment assistance.

Conclusion

After careful review of the application, I conclude that the claim is of sufficient weight to justify reconsideration of the Department of Labor's prior decision. The application is, therefore, granted.

Signed at Washington, DC, this 12th day of September 2005.
Elliott S. Kushner,
Certifying Officer, Division of Trade Adjustment Assistance.

[FR Doc. 05-18544 Filed 9-16-05; 8:45 am]

BILLING CODE 4510-30-P